DEPARTMENT OF HEALTH AND HUMAN SERVICES

Centers for Disease Control and Prevention

Advisory Committee on Childhood Lead Poisoning Prevention: Notice of Charter Renewal

This gives notice under the Federal Advisory Committee Act (Pub. L. 92-463) of October 6, 1972, that the Advisory Committee on Childhood Lead Poisoning Prevention, Centers for Disease Control and Prevention, of the Department of Health and Human Services, has been renewed for a 2-year period through October 31, 2003.

For information, contact Gary P. Noonan, Executive Secretary, Advisory Committee on Childhood Lead Poisoning Prevention, Centers for Disease Control and Prevention, of the Department of Health and Human Services, 1600 Clifton Road, NE, M/S E-25, Atlanta, Georgia 3033, telephone 404-498-1442 or fax 404-498-1444.

The Director, Management Analysis and Services Office has been delegated the authority to sign Federal Register notices pertaining to announcements of meetings and other committee management activities, for both the Centers for Disease Control and Prevention and the Agency for Toxic Substances and Disease Registry.

Dated: October 4, 2001.
Carolyn J. Russell,
Director, Management Analysis and Services Office, Centers for Disease Control and Prevention.

[FR Doc. 01-25851 Filed 10-12-01; 8:45 am]

BILLING CODE 4163-19-P